DEPARTMENT OF ENERGY

Federal Energy Regulatory Commission

[Docket No. RP01-482-000]

Dominion Transmission, Inc.; Notice of Status Report and Request for Waiver

July 12, 2001.

Take notice that on July 9, 2001, Dominion Transmission Inc. (DTI) tendered for filing the First Revised Volume 2 tariff and First Revised Sheets Nos. 2-8 in DTI's Third Revised Volume 1 to reflect the corporate name change effective April 11, 2000.

DTI states that copies of this filing are being sent by first-class mail, postage prepaid, by DTI to DTI's customers listed in Original Volumes 2 and 2A. A copy of this letter and the Table of Contents changes to Third Revised Volume No. 1 are being sent to DTI's customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-17892 Filed 7-17-01; 8:45 am]

BILLING CODE 6717-01-P